ENVIRONMENTAL PROTECTION AGENCY

[ER-FRL-9011-8]

Environmental Impacts Statements; Notice of Availability

Responsible Agency: Office of Federal Activities, General Information (202) 564-7146 or http://www.epa.gov/compliance/nepa/.

Weekly receipt of Environmental Impact Statements

Filed 10/28/2013 Through 11/01/2013,

Pursuant to 40 CFR 1506.9.

Notice: Section 309(a) of the Clean Air Act requires that EPA make public its comments on EISs issued by other Federal agencies. EPA's comment letters on EISs are available at: http://www.epa.gov/compliance/nepa/eisdata.html

EIS No. 20130318, Final EIS, USFS, CA, Harris Vegetation Management Project, Review Period Ends: 12/23/2013, Contact: Emelia Barnum 530-926-4511

EIS No. 20130319, Draft EIS, USFS, UT, High Uintas Wilderness Colorado River Cutthroat Trout (CRCT) Habitat Enhancement, Comment Period Ends: 12/23/2013, Contact: Ronald Brunson 435-781-5202

EIS No. 20130320, Final EIS, USACE, CA, Suncreek Specific Plan, Review Period Ends: 12/09/2013, Contact: Lisa M. Gibson 916-557-5288

EIS No. 20130321, Draft Supplement, USFS, AZ, Bill Williams Mountain Restoration Project, Comment Period Ends: 12/23/2013, Contact: Marcos Roybal 928-635-8210

EIS No. 20130322, Draft EIS, BLM, MT, Lewistown Field Office Greater Sage-Grouse Draft Resource Management Plan Amendment, Comment Period Ends: 02/05/2014, Contact: Adam Carr 406-538-1913

EIS No. 20130323, Draft EIS, USFS, OR, Malheur National Forest Site-Specific Invasive Plants Treatment Project, Comment Period Ends: 12/23/2013, Contact: Joseph H. Rausch 541-575-3141

EIS No. 20130324, Final EIS, BLM, CA, Stateline Solar Farm Project, Proposed Final Plan Amendment, Review Period Ends: 02/05/2014, Contact: Jeffery Childers 951-807-6737

EIS No. 20130325, Draft EIS, NPS, MO, Ozark National Scenic Riverways Draft General Management Plan, Wilderness Study, Comment Period Ends: 12/30/2013, Contact: William Black 573-323-4236

EIS No. 20130326, Draft EIS, USFS, CA, California Pacific Electricity Company 625 and 650 Electrical Line Upgrade Project, Comment Period Ends: 01/07/2014, Contact: Robert Rodman, Jr. 530-543-2613

EIS No. 20130327, Draft EIS, NPS, CA, Channel Islands National Park Draft General Management Plan, Wilderness Study, Comment Period Ends: 01/09/2014, Contact: Greg Jarvis 303-969-2263

EIS No. 20130328, Final EIS, USACE, CA, Pier S Development and Back Channel Navigational Safety Improvements in the Port of Long Beach, Review Period Ends: 12/09/2013, Contact: John Markham 805-585-2150

Amended Notices

EIS No. 20130288, Final EIS, USACE, TX, Luce Bayou Interbasin Transfer Project, Review Period Ends: 11/18/2013, Contact: Jayson Hudson 409-766-3108. Revision of FR Notice Published 10/04/2013; Extending Review Period from 11/04/2013 to 11/18/2013.

EIS No. 20130297, Draft EIS, USACE, LA, Calcasieu Lock Louisiana Feasibility Study, Comment Period Ends: 12/02/2013, Contact: Timothy K. George 314-331-8459. Revision to FR Notice Published 10/04/2013; Extending Comment Period from 11/18/2013 to 12/02/2013.

EIS No. 20130303, Final Supplement, FTA, HI, Honolulu Rail Transit Project/Amended Record of Decision, Contact: Ted Matley 415-744-3133. Revision to FR Notice Published 10/25/2013; Under MAP-21 section 1319, FHWA has issued a FSEIS and Amended ROD. Therefore, the 30-day wait/review period under NEPA does not apply to this action.

Dated: November 5, 2013.
Cliff Rader,
Director, NEPA Compliance Division, Office of Federal Activities.

[FR Doc. 2013-26870 Filed 11-7-13; 8:45 am]

BILLING CODE 6560-50-P